DEPARTMENT OF AGRICULTURE

Forest Service

California Coast Provincial Advisory Committee

AGENCY: Forest Service, USDA.

ACTION: Notice of meeting.

SUMMARY: The California Coast Provincial Advisory Committee (PAC) will meet on December 9, 2004, in Eureka, California. The purpose of the meeting is to discuss issues relating to implementing the Northwest Forest Plan (NWFP).

DATES: The meeting will be held from 8:30 a.m. to 5 p.m.

ADDRESSES: The meeting will be held at the Six Rivers National Forest Supervisor's Office, 1330 Bayshore Way, Eureka.

FOR FURTHER INFORMATION CONTACT: Phebe Brown, Committee Coordinator, USDA, Mendocino National Forest, 825 N. Humboldt Avenue, Willows, CA 95988, (503) 934-1137; E-MAIL pybrown@fs.fed.us.

SUPPLEMENTARY INFORMATION: Agenda items to be covered include: (1) Regional Exosystem Office (REO) update; (2) Provincial Interagency Executive Committee (PIEC) feedback to the PAC regarding their recommendations on watershed analyses and Healthy Forest Restoration Act projects; (3) Report on the Province 2004 Implementation Monitoring activity held in September; (4) Continue panel discussion concerning options for silvicultural treatments on federal lands; (5) Presentation on the NWFP 10-year monitoring program; (6) Presentation on Bureau of Land Management/Department of Fish and Game research on impacts of fall, winter and spring prescribed burning on avian and terrestrial species; and (7) Public comment. The meeting is open to the public. Public input opportunity will be provided and individuals will have the opportunity to address the Committee at that time.

Dated: November 9, 2004.
Phebe Y. Brown,
Committee Staff Coordinator.

[FR Doc. 04-25482 Filed 11-16-04; 8:45 am]

BILLING CODE 3410-11-M